COMMISSION ON CIVIL RIGHTS

Sunshine Act Meeting

AGENCY: United States Commission on Civil Rights.

ACTION: Notice of meeting.

DATE AND TIME: Friday, August 3, 2012; 2:00 p.m. EDT.

PLACE: Via Teleconference, Public Dial In: 1-877-681-3374, Conference ID # 4923945.

Meeting Agenda

This meeting is open to the public, except where noted otherwise.

I. Program Planning

Approval of the topics for the 2013 Statutory Report and two Briefing Reports—a single vote on the following package:

(a) The topic of sexual assault in the military, as set forth in the concept paper prepared by Commissioner Kladney, for the 2013 Statutory Report; and

(b) The topic of EEOC's Conviction Records Policy, as set forth in the concept paper prepared by Commission Kirsanow, for a briefing report; and

(c) The topic of the civil rights of veterans, as set forth in the concept paper prepared by Chairman Castro, for a briefing report.

IV. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: July 24, 2012.
Peter Minarik,
Acting RPCU Chief, Office of the Staff Director.

[FR Doc. 2012-18394 Filed 7-24-12; 4:15 pm]

BILLING CODE 6335-01-P